DEPARTMENT OF JUSTICE

Notice of Lodging of Consent Decree, Under the Comprehensive, Environmental Response, Compensation and Liability Act (“CERCLA”)

In accordance with Departmental policy, 28 CFR 50.7, notice is hereby given that on April 28, 2000 a proposed Amendment Consent Decree in Civil Action No. 99-2673-Civ-T-24B was lodged with the United States District Court for the Middle District of Florida.

In this action the United States sought injunctive relief and recovery of response costs under Sections 106(a) and 107 of CERCLA, 42 U.S.C. 9606(a) and 9607, with respect to the Stauffer Chemical Superfund Site in Tarpon Springs, Florida (“the Site”).

Under the proposed Amended Consent Decree, Atkemix Thirty-Seven, Inc., the present owner and operator of the Site, and Aventis CropScience USA, Inc., formerly Rhone-Poulenc Ag Company, Inc., the former owner and operator of the Site, have agreed to perform the remedy chosen by EPA to clean up the Site, pay the government's remaining past response costs, and pay future response costs, in settlement of the government's claims under Sections 106 and 107 of CERCLA, 42 U.S.C. 9606 and 9607.

The Department of Justice will receive, for a period of thirty (30) days from the date of this publication, comments relating to the proposed consent decree. Comments should be addressed to the Assistant Attorney General for the Environment and Natural Resources Division, Department of Justice, Washington, D.C. 20044-7611, and should refer to Untied States v. Atkemix Thirty-Seven, Inc., and Rhone-Poulenc Ag. Company, Inc., (M.D. FI.) DOJ# 90-11-2-1227/1.

The proposed consent decree may be examined at the Office of the United States Attorney, 400 North Tampa Street, Suite 3200, Tampa, Florida 33602, the Region 4 Office of the Environmental Protection Agency, 61 Forsythe Street, Atlanta, Georgia 30303, and at the Consent Decree Libra, Post Office Box 7611, Washington, DC 20044-7611. A copy of the proposed consent decree may be obtained by mail from the Consent Decree Library, Post Office Box 7611, Washington, DC 20044-7611. In requesting a copy please refer to the referenced case and enclose a check and enclose a check in the amount of 25 cents per page for reproduction costs, payable to the Consent Decree Library.

Joel M. Gross,
Chief, Environmental Enforcement Section, Environment and Natural Resources Division.

[FR Doc. 00-12036 Filed 5-11-00; 8:45 am]

BILLING CODE 4410-15-M